AGENCY FOR INTERNATIONAL DEVELOPMENT

60-Day Notice of Proposed Information Collection—Development Information Solution

AGENCY: Bureau for Management, Office of Acquisition and Assistance, Policy Division, United States Agency for International Development (USAID).

ACTION: Notice of request for public comment.

SUMMARY: The U.S. Agency for International Development (USAID) seeks Office of Management and Budget (OMB) approval for the information collection described below. In accordance with the Paperwork Reduction Act of 1995, USAID requests public comment on this collection from all interested individuals and organizations. The purpose of this notice is to allow 60 days for public comment preceding submission of the collection to OMB.

DATES: Comments must be received no later than February 19, 2021.

ADDRESSES: You may submit comments by any of the following methods:

1. Web: Through the Federal eRulemaking Portal at http://www.regulations.gov. Follow the instructions for submitting comments.

2. Email: policymailbox@usaid.gov.

FOR FURTHER INFORMATION CONTACT: Direct requests for additional information regarding the collection listed in this notice, including requests for copies of the proposed collection instrument, to Marcelle Wijesinghe at 202-916-2606 or via email at mwijesinghe@usaid.gov.

SUPPLEMENTARY INFORMATION:

Instructions

All comments must be in writing and submitted through the method(s) specified in the Addresses section above. All submissions must include the information collection title. Please include your name, title, organization, postal address telephone number, and email address in the text of the message. Please note that comments submitted in response to this Notice are public record. We recommend that you do not submit detailed personal information, Confidential Business Information, or any information that is otherwise protected from disclosure by statute.

USAID will only address comments that explain why the proposed collection would be inappropriate, ineffective, or unacceptable without a change. Comments that are insubstantial or outside the scope of the notice of request for public comment may not be considered.

Purpose

USAID is implementing the Development Information Solution (DIS) Pilot to consolidate reporting, improve efficiencies, and facilitate evidence-based decision-making. The purpose of this information collection is to require USAID contractors and grant recipients who collect indicator data under their award terms to: (1) Submit information to request access to the DIS, and (2) to submit indicator information to the DIS, which is collected under special award requirements unique to each award. In order to request access to the DIS, contractors and recipients of grants and cooperation agreements will need to submit the following information to USAID: Name, contact telephone number, name of organization, Login.gov username (which is the address used for Login.gov access), award number, award expiration date, the activities for which access is requested, and a signature and date to acknowledge agreement to the listed Rules of Behavior. We estimate that two persons may request access for each award that requires the collection of indicator data.

Contractors and recipients will use the access to DIS during the pilot to submit indicator data and narrative on the deviation between indicator results and targets, when required as a subset of performance reporting under special award requirements. We estimate that indicator information will be submitted to DIS quarterly. As the DIS pilot progresses, USAID will use information from the pilot to inform rulemaking under Regulation Identifier Number (RIN) 0412-AA90, which will require contractors and grant recipients to submit digital information required under awards through the DIS, replacing other current methods of submission. This information collection request will be updated in conjunction with the rulemaking to capture digital information submission requirements for information collected under other standard award terms.

Overview of Information Collection

• Title of Information Collection: USAID Development Information Solution Pilot.

• Type of Review: A New Information Collection.

• Respondents: USAID contractors and grant and cooperative agreement recipients.

• Estimated Number of Annual Responses—DIS Access: 2,368.

• Estimated Number of Annual Burden Hours—DIS Access: 1,184.

• Estimated Number of Annual Responses—Indicator Information: 11,236.

• Estimated Number of Annual Burden Hours—Indicator Information: 2,809.

• Total Estimated Number of Annual Responses: 13,604.

• Total Estimated Number of Annual Burden Hours: 3,993.

Dated: December 15, 2020.
Mark Walther,
Senior Procurement Executive.

[FR Doc. 2020-27989 Filed 12-18-20; 8:45 am]

BILLING CODE 6116-01-P